COMMITTEE FOR PURCHASE FROM PEOPLE WHO ARE BLIND OR SEVERELY DISABLED

Agency Information Collection Activities; Proposals, Submissions, and Approvals

AGENCY: Committee for Purchase From People Who Are Blind or Severely Disabled.

ACTION: Notice of information collection; request for comment.

SUMMARY: The Committee for Purchase From People Who Are Blind or Severely Disabled operates as the U.S. AbilityOne Commission (Commission). This notice announces the Commission's intent to submit the Information Collection Request (“ICR”) described below to the Office of Management and Budget (OMB) for approval under applicable provisions of the Paperwork Reduction Act. This notice provides an opportunity to interested members of the public and affected agencies to comment on a proposed Individual Employee Information form.

DATES: Submit comments on or before July 1, 2024.

ADDRESSES: Submit comments through www.regulations.gov.

FOR FURTHER INFORMATION CONTACT: Christopher Stewart, Compliance and Enforcement Attorney, Office of General Counsel, U.S. AbilityOne Commission, 355 E Street SW, Suite 325, Washington, DC 20024; telephone: (703) 254-6172; email: cstewart@abilityone.gov. If you are deaf, hard of hearing, or have a speech disability and wish to access telecommunications relay services, please dial 7-1-1.

SUPPLEMENTARY INFORMATION:

Overview of ICR: This notice pertains to an ICR the Commission intends to submit to OMB for approval of a form that an AbilityOne participating nonprofit agency employer will fill out to document relevant information for each of its employees whose work on an AbilityOne Procurement List contract is counted by the NPA as direct labor hours. These individuals are called “Participating Employees.”

This ICR is consistent with OMB regulations at 5 CFR part 1320, which implement provisions of the Paperwork Reduction Act of 1995 (44 U.S.C. 3501 et seq.). These regulations require the Commission to provide an opportunity to interested members of the public and affected agencies to comment on information collection and recordkeeping activities (see 5 CFR 1320.8(d)) such as those proposed to be implemented through this form.

The Commission is responsible for implementing the Javits-Wagner-O'Day (JWOD) Act, 41 U.S.C. 8501-8506. In doing so, the Commission oversees the AbilityOne Program, an employment program in which individuals who are blind or have significant disabilities provide products and services to Federal agencies, thereby creating employment opportunities for such individuals. The Commission maintains a Procurement List of mandatory source products and services provided by approximately 413 qualified nonprofit agencies (NPAs).

This Participating Employee Information (PEI) form will collect data from qualified NPAs regarding Participating Employees in order to ensure the integrity and further the mission of the AbilityOne Program. This form will provide data on matters such as employee wages, the nature of Participating Employees' disabilities, what job supports and accommodations the Participating Employees are receiving, and a description of employee career development activities that are available to Participating Employees, if an NPA is currently providing such activities.

The form described in this ICR is the second of three forms designed to modernize the Commission's information gathering efforts and align it with the Commission's Strategic Plan for FY2022 to FY2026, as well as with Commission regulations, including, inter alia, 41 CFR 51-4.3.

The Commission is also developing a new Policy 51.405 which will set forth an NPA's responsibility to provide Participating Employees with employee career development activities such as job individualizations and employee career plans. Although the requirements of Policy 51.405 will be implemented over time, this form will allow those NPAs that are already providing such employee career development activities to provide data on what they offer.

A draft version of the PEI form is available at www.abilityone.gov.

The PEI form will be filled out and submitted annually for each Participating Employee through an electronic system that will be established by the Central Nonprofit Agency for the use of the NPAs.

The Commission estimates that it will take 45 minutes to complete the form. Information regarding employee wages and hours worked is currently maintained by each NPA in their payroll system. Information on the accommodations and job supports an individual employee is receiving is currently required by the predecessor form that is currently completed by the NPA for each direct labor employee who is blind or has a significant disability. The additional information regarding whether third parties have paid for or reimbursed the NPA for the provision of accommodations or job supports, or career development support, was not previously collected. However, information regarding the third-party provision of services and/or third party provision of funding for an individual should accessible from the employee's records, which the preparer will review to complete this form. In addition, the listing of multiple-choice text boxes on the proposed form is expected to streamline the process for providing this information.

To calculate the burden for completion of the form in units of hours, the Commission multiplied the estimated total number of annual responses by 0.75. NPAs can assess the burden to their particular organization by multiplying the time by their total number of Participating Employees.

The cost burden is based upon national average pay data from the U.S. Bureau of Labor Statistics, using the May 2022 National Occupational Employment and Wage Estimate of $30.88 as the median hourly wage for a Human Resources Specialist (OC 13-1070). (https://www.bls.gov/oes/current/oes_nat.htm#11-0000) The table below represents the time and cost burden the Commission estimates this form will necessitate. The Commission believes that collecting this critical data will further the Program's mission and ultimately result in an expansion in opportunities for the individuals employed through the AbilityOne Program.

Number of NPAs | Annual responses for this form | Annual form burden (minutes/employee) (hour) | Total time burden for all employees | Annual form cost burden (dollars)
413 | 36,377 | .75 | 27,282.75 | $842,491.32

With respect to this collection of information via the proposed form, the Commission welcomes comments on the following:

• The necessity to collect this information to support the Commission's mission and oversight responsibilities.

• Methodology to improve the accuracy of the estimated time burden, i.e., specific year-over-year employee turnover rates for NPAs or number of additional employee hires above turnovers, expressed as a percentage of the NPAs' total number of Participating Employees;

• Suggestions or methods to minimize the burdens associated with collecting the information described in this ICR.

The proposed form is viewable at www.abilityone.gov.

Michael R. Jurkowski,
Director, Business Operations.

[FR Doc. 2024-09705 Filed 5-2-24; 8:45 am]

BILLING CODE 6353-01-P